DEPARTMENT OF TRANSPORTATION

Federal Aviation Administration

Notice of Release From Federal Grant Assurance Obligations for Sacramento International Airport (SMF), Sacramento, CA

AGENCY: Federal Aviation Administration, US DOT.

ACTION: Notice of Request to Release Airport Land.

SUMMARY: The Federal Aviation Administration (FAA) proposes to rule and invites public comment on the application for a release of two parcels of land comprising approximately 6.50 acres of airport property at the Sacramento International Airport, California. The County of Sacramento proposes to release the 6.50 acres for sale to the California's Reclamation District 1000 at fair market value. The two parcels of land are occupied in their entirety by a storm water drainage canal and pumping plant owned and operated by Reclamation District 1000 and do not serve any aviation purposes. The property serves as a regional drainage canal and pumping plant to support facilities for transporting storm water away from developed and undeveloped property, including part of the Sacramento International Airport in the southwest section of the Natomas Basin.

DATES: Comments must be received on or before May 23, 2012.

FOR FURTHER INFORMATION CONTACT: Comments on the request may be mailed or delivered to the FAA at the following address: Robert Y. Lee, Airports Compliance Specialist, Federal Aviation Administration, Airports Division, Federal Register Comment,1000 Marina Boulevard, Suite 220, Brisbane, CA 94005. In addition, one copy of the comment submitted to the FAA must be mailed or delivered to Mr. Greg Rowe, Senior Environmental Analyst, County of Sacramento, 6900 Airport Boulevard, Sacramento, California 95837.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of Sacramento, California requested a release from grant assurance obligations for approximately 6.50 acres of land that is not contiguous to the airport and located southwest of the airport between the Sacramento River and Interstate Highway 5. The property was originally acquired as two separate parcels, one measuring 6.27 acres and the other 0.18 acres. The Federal Aviation Administration's Federal Aid to Airports Program, FAAP 9-04-130-6401, provided partial grant funding to acquire the property.

Due to the parcels' location and use, the property has no alternative airport use. The property was improved for flood control purpose and continues to serve that purpose. The larger parcel contains a drainage canal and the smaller parcel has a pumping plant that pumps storm water and agricultural runoff into the Sacramento River. The property also serves as a cross canal between the West Drainage Canal and the Sacramento River. The area is zoned as “Permanent Agricultural Zone,” in conformity with most of the surrounding area, which is farm land. Since the 1960's, the land has been used as a regional drainage canal and pumping plant. The location, size and dimensions of the two parcels are only suited as a drainage canal and open space. With no contemplated commercial use, the land's value is diminimus.

The release will allow the title of the two parcels to be transferred to the Reclamation District 1000 in exchange for storm water drainage channel clearance services. The value of these services will compensate the airport for the property's residual fair market value. The channel clearance service is likely more beneficial to the County Airport System than a diminimus payment. The release parcels will continue to be utilized for drainage purposes and will benefit the airport by increasing the airport's impervious surface runoff and drainage needs. Furthermore, it represents a compatible land use that will not interfere with the airport or its operation. Therefore, the release is a benefit to civil aviation.

Issued in Brisbane, California, on April 16, 2012.
Arlene Draper,
Acting Manager, San Francisco Airports District Office, Western-Pacific Region.

[FR Doc. 2012-9741 Filed 4-20-12; 8:45 am]

BILLING CODE 4910-13-P